DEPARTMENT OF JUSTICE

National Institute of Corrections

Solicitation for a Cooperative Agreement: Development of Materials Specific to Lesbian, Gay, Bisexual, Transgender and Intersex (LGBTI) Offenders in Corrections

AGENCY: National Institute of Corrections, U.S. Department of Justice.

ACTION: Solicitation for a Cooperative Agreement.

SUMMARY: The National Institute of Corrections (NIC) is seeking applications from organizations, groups, or individuals to enter into a cooperative agreement with NIC for a 12-month period to develop a white paper specific to recommended best practices in the safe and respectful management of the LGBTI offender population both in custody and on community supervision.

DATES: Applications must be received by 4:00 p.m. (EDT) on Thursday, January 31, 2013.

Applicants are encouraged to submit their application electronically via http://www.grants.gov.

Mailed applications must be sent to: Director, National Institute of Corrections, 320 First Street NW., Room 5002, Washington, DC 20534. Applicants are encouraged to use Federal Express, UPS, or similar service to ensure delivery by the due date.

Faxed or emailed applications will not be accepted.

For Further Information: A copy of this announcement and links to the required application forms can be downloaded from the NIC Web site at http://www.nicic.gov/cooperativeagreements.

All technical or programmatic questions concerning this announcement should be directed to Lorie Brisbin, Correctional Program Specialist, National Institute of Corrections, Community Services Division. Ms. Brisbin can be reached directly at 1-800-995-6423 ext. 40099 or by email at lbrisbin@bop.gov. In addition to the direct reply, all questions and responses will be posted on NIC's Web site at www.nicic.gov for public review (the names or affiliations of those submitting questions will not be posted). The Web site will be updated regularly and postings will remain on the Web site until the closing date of this cooperative agreement solicitation.

SUPPLEMENTARY INFORMATION:

Overview: The materials developed through this cooperative agreement are intended for a broad audience of corrections professionals and related stakeholders working in jail, prison, juvenile detention, and community corrections (probation, parole and pretrial) organizations. Awardees should develop the materials based on current research, knowledge, best practice, and specific information related to the experiences of corrections professionals and the target population. NIC will use the materials to define, identify, acknowledge, and address the safe and respectful management of the LGBTI offender. The deliverables will help advance and foster professional correctional environments while positively influencing systems, staff, and justice-involved men and women.

Background: The National Institute of Corrections provides support to federal, state, and local criminal justice organizations nationally. In 1974, Congress established NIC both as a center for the dissemination of timely correctional knowledge and professional training and as a place to exchange and discuss advances in criminal justice practice. Correctional agencies face many challenges surrounding the safe management of the populations they house and supervise. Due in part to changes in federal and state laws and the outcome of successful offender litigation, the management of LGBTI offenders in custody has become an emerging correctional issue that deserves special attention. While gender non-conforming offenders have always been present within correctional facilities and on caseloads, the current environment suggests the need for helping correctional agencies identify responsible and safe practices that are respectful of differences and that have the potential to reduce agencies' susceptibility to liability and litigation.

In the past several years, various changes to federal and state laws have created and expanded the rights of individuals identifying as non-heterosexual or otherwise gender non-conforming. The repeal of the policy banning military staff from serving as openly gay (“Don't Ask, Don't Tell”), the expansion of protections under hate crime and housing laws, and the adoption of same-sex marriage laws are a few examples of some of these changes. While it is unclear how many of the free-world rights and privileges will affect the offender population, the promulgation of the Prison Rape Elimination Act Standards is beginning to have an impact regarding the management of the LGBTI population.

The LGBTI offender population has some very particular issues associated with certain aspects of the correctional experience, such as housing, classification, and placement; medical and mental health treatment; clothing and grooming; drug testing; and interactions with staff. As a general group, they are also more likely to be victims of sexually abusive acts while in custody according to surveys conducted by the Bureau of Justice Statistics (BJS), which indicate that non-heterosexual adult offenders report higher rates of sexual victimization while in custody. Similar surveys by BJS in juvenile facilities show even higher rates of sexual victimization among non-heterosexual juvenile offenders. Similarly, a 2009 BJS research report cited findings that transgender offenders experienced sexual victimization at a rate twenty times higher than a random sampling of offenders in the same facility.

Unfortunately, there is a remarkable lack of research regarding the LGBTI population's experience of incarceration and supervision. There are a number of reasons for this. Most notably, it is because few agencies collect data regarding sexual orientation and the hesitation of offenders to provide the information. Consequently, it is unclear how many offenders identify as non-heterosexual or otherwise gender non-conforming. A recent report from the Bureau of Justice Statistics indicates that there were 2,239,800 individuals in custody in prisons and jails and 4,814,200 on probation or parole for 2011. A Gallup report published in October 2012 by the Williams Institute reported that 3.4% of US adults identify as lesbian, gay, bisexual or transgender. Therefore, a conservative estimate could be made based upon this 3.4%, indicating that there could potentially have been 76,153 non-heterosexual offenders in custody and as many as 163,682 on probation or parole for 2011. However, a Bureau of Justice Statistics study in 2006 contained self-report data for in-custody offenders indicating that 11% in men's facilities and 28% in women's facilities identified as lesbian, gay, or bisexual, so the number may be considerably higher.

Statement of Work: The objective of this cooperative agreement is to develop informational materials reflecting best practices that NIC will use to assist the field in responding to challenges associated with the LGBTI offender population.

Activities and products from this cooperative agreement will include a review of the NIC annotated bibliography to identify additional items for inclusion in that publication, the convening and facilitating of a work session comprised of researchers and practitioners (both correctional and non-correctional) to organize and synthesize the available research and knowledge on this topic, and the development of informational materials to be determined by content. Resulting products will be in the public domain and available through the National Institute of Corrections Web site and Information Center.

Tasks to be performed through this cooperative agreement include: (1) Reviewing the current annotated bibliography, conducting a literature search, and providing recommendations for the inclusion of additional materials relevant to jails, prisons, juvenile detention, community corrections, and other relevant disciplines. (2) convening a working session at an approved federal training location for up to 10 participants, including researchers and corrections practitioners; designing the working agenda; providing facilitation; and using content from the session to inform project deliverables. Working session participants will be identified in close cooperation with and with the approval of the project staff. Some travel expenses may be covered by NIC and therefore are negotiable depending on the meeting and/or successful applicant's location. (3) working with NIC project staff, and designated experts to draft informational materials reflecting best practices on the safe and respectful management of LGBTI offenders both in custody and on supervision; distributing the materials for peer review; revising the draft; and publishing the final products. (4) creating a final report that summarizes the project and provides recommendations for follow up work on this topic. This project will be completed in conjunction with the NIC Community Services Division and the awardee will work closely with NIC staff on all aspects of the project. The awardee will participate in an initial meeting with designated NIC staff for a project overview and preliminary planning. Additionally, the awardee will meet routinely with NIC staff to discuss the activities noted in the project timeline submitted during the course of the cooperative agreement. Meetings will be held no less than quarterly and may be conducted via webinar with at least one onsite as agreed upon by NIC and the awardee.

Required Expertise: The successful applicant will at a minimum understand the current state of legislation regarding LGBTI rights in the free world as well as current case law affecting the LGBTI in-custody population; have broad experience and in-depth knowledge of the issues encountered by correctional agencies in the management of this population, whether working in an institutional environment or community-based setting; have knowledge about the effect of correctional culture and the challenges in maintaining a professional and respectful environment; be familiar with relevant research; have expertise in meeting facilitation; and have knowledge of evidence-based practices and its application to corrections.

Document Requirements: The length of documents should be determined by content. Brevity and clarity are encouraged. Documents and other products developed under this award must follow these guidelines. Prior to the preparation of the final draft of any document or other product, the awardee must consult with NIC's writer/editor concerning the acceptable formats for submissions. The awardee must follow the guidelines listed herein as well as follow (1) the Guidelines for Preparing and Submitting Manuscripts for Publication as found in the “General Guidelines for Cooperative Agreements,” which can be found on our Web site at www.nicic.gov/cooperativeagreements and (2) NIC recommendations for producing products using plain language, which can be found at www.nicic.gov/plainlanguage.

All final documents and other materials submitted under this project may be posted on the NIC Web site and must meet the federal government's requirement for accessibility (e.g., 508 PDFs or HTML files). The awardee must provide descriptive text interpreting all graphics, photos, graphs, and/or multimedia that will be included with or distributed alongside the materials and must provide transcripts for all applicable audio/visual works.

Application Requirements: An application package must include OMB Standard Form 424, Application for Federal Assistance; a cover letter that identifies the audit agency responsible for the applicant's financial accounts as well as the audit period or fiscal year under which the applicant operates (e.g. July 1 through June 30); an outline of projected costs with the budget and strategy narratives described in the announcement. The following additional forms must also be included: OMB Standard Form 424A, Budget Information—Non-Construction Programs; OMB Standard Form 424B, Assurances—Non-Construction Programs (both available at www.grants.gov); DOJ/FBOP/NIC Certification Regarding Lobbying, Debarment, Suspension and Other Responsibility Matters; and the Drug-Free Workplace Requirements (available at http://www.nicic.gov/Downloads/General/certif-frm.pdf.

Applications should be concisely written, typed double spaced, and reference the NIC opportunity number and title referenced in this announcement. If you are submitting in hard copy, please include an original and three copies of your full proposal (program and budget narrative, application forms, assurances, and other descriptions). The original should have the applicant's signature in blue ink. Electronic submissions will be accepted only via www.grants.gov.

Place the following at the top of the abstract: Project title; Applicant name (Legal name of applicant organization); Mailing address; Contact phone numbers (voice, fax); Email address; Web site address, if applicable.

The narrative portion of the application should include, at a minimum: A statement indicating the applicant's understanding of the project's purpose and objectives. The applicant should state this in language other than that used in the solicitation.

Project Design and Implementation: This section should describe the design and implementation of the project and how the awardee aims to address key design and implementation issues and challenges.

Project Management: Chart of measurable project milestones and timelines for the completion of each milestone.

Capabilities and Competencies: This section should describe the qualifications of the applicant organization, any partner organizations to do the work proposed, and the expertise of key staff to be involved in the project. Attach resumes that document relevant knowledge, skills, and abilities needed for each staff member assigned to complete the project. If the applicant organization has completed similar projects in the past, please include the URL/Web site or ISBN number for accessing a copy of the referenced work.

Budget: The budget should detail all costs for the project, show consideration for all contingencies for the project, note a commitment to work within the proposed budget, and demonstrate the ability to provide deliverables according to schedule.

Authority: Pub. L. 93-415.

Funds Available: NIC is seeking the applicant's best ideas regarding accomplishment of the scope of work and the related costs for achieving the objectives of this solicitation. Funds may be used only for the activities linked to the desired outcome of the project. The funding amount should not exceed $30,000 for a period of 12 months.

Eligibility of Applicants: An eligible applicant is any state or general unit of government, private agency, educational institution, organization, individual, or team with expertise in the described areas. Applicants must have demonstrated ability to implement a project of this size and scope.

Review Considerations: Among the criteria used to evaluate the applications are indication of a clear understanding of the project requirements as stated in the solicitation; background, experience, and expertise of the proposed project staff, including any sub-contractors; effectiveness of an innovative approach to the project; a clear, concise description of all elements and tasks of the project, with sufficient and realistic timeframes necessary to complete the tasks; technical soundness of project design and methodology; financial and administrative integrity of the proposal, including adherence to federal financial guidelines and processes; a sufficiently detailed budget that shows consideration of all contingencies for this project and commitment to work within the proposed budget; and indication of availability to work with NIC staff.

Applications received under this announcement will be subject to a collaborative review process. The criteria for the evaluation of each application will be as follows:

Programmatic: 40 Points

Are all of the tasks and activities adequately covered? Is there a clear description of how the applicant will accomplish each project activity, including major tasks; the strategies to be employed; required staffing; responsible parties, and other required resources? Are there any unique or exceptional approaches, techniques, or design aspects proposed that will enhance the project?

Project Management and Administration: 20 Points

Does the applicant identify milestones and measures that demonstrate achievement of the specific tasks? Are the proposed management and staffing plans clear, realistic, and sufficient to complete the project? Is the applicant willing to meet with NIC as specified in the solicitation for this cooperative agreement?

Organizational and Project Staff Background: 30 Points

Do the skills, knowledge, and expertise of the organization and the proposed project staff demonstrate a high level of competency to complete the tasks? Does the applicant/organization have the necessary experience and organizational capacity to meet all objectives of the project? If the applicant proposes consultants and/or partnerships, is there a reasonable justification for their inclusion in the project and a clear structure to ensure effective coordination?

Budget: 10 Points

Is the proposed budget realistic, does it provide sufficient cost detail/narrative, and does it represent good value relative to the anticipated results? Does the application include a chart that aligns the budget with project activities along a timeline with, at minimum, quarterly benchmarks? In terms of program value, is the estimated cost reasonable in relation to the work to be performed and project products?

Note: NIC will NOT award a cooperative agreement to an applicant who does not have a Dun and Bradstreet Database Universal Number (DUNS) and is not registered in the Central Contractor Registry (CCR).

Applicants can obtain a DUNS number at no cost by calling the dedicated toll-free request line at 800-333-0505. Applicants who are sole proprietors should dial 866-705-5711 and select option #1.

Applicants may register in the CCR online at the CCR Web site: www.ccr.gov. Applicants can also review a CCR handbook and worksheet at this Web site.

Number of Awards: One

NIC Opportunity Number: 13CS06. This number should appear as a reference line in the cover letter, where indicated on Standard Form 424, and outside of the envelope in which the application is sent.

Catalog of Federal Domestic Assistance Number: 16.601.

Executive Order 12372: This project is not subject to the provisions of Executive Order 12372.

Robert Brown, Jr.,
Acting Director, National Institute of Corrections.

[FR Doc. 2013-00846 Filed 1-15-13; 8:45 am]

BILLING CODE 4410-36-P